FEDERAL HOUSING FINANCE AGENCY

[No. 2017-N-09]

Privacy Act of 1974; Systems of Records

AGENCY: Federal Housing Finance Agency.

ACTION: Notice of a new system of records.

SUMMARY: In accordance with the requirements of the Privacy Act of 1974, as amended (Privacy Act), the Federal Housing Finance Agency (FHFA) gives notice of a new proposed Privacy Act system of records. The new proposed system is: Applicant Tracking System (FHFA-25). The Applicant Tracking System will be used by FHFA to post and publicize mission critical occupation job openings using FHFA's authority to hire examiners, accountants, economists, and specialists in financial markets and in technology. The System will be used to receive, store, and process resumes, applications, curriculum vitaes, and similar documents received in response to mission critical occupation job openings, and recruiting and outreach events. In addition, the System will be used to track applicants for such positions.

DATES: To be assured of consideration, comments must be received on or before December 15, 2017. This new system of records will become effective on December 15, 2017 without further notice unless comments necessitate otherwise. FHFA will publish a new notice if the effective date is delayed to review comments or if changes are made based on comments received.

ADDRESSES: Submit comments to FHFA, identified by “2017-N-09,” using any one of the following methods:

• Agency Web site: www.fhfa.gov/open-for-comment-or-input.

• Federal eRulemaking Portal: http://www.regulations.gov. Follow the instructions for submitting comments. If you submit your comment to the Federal eRulemaking Portal, please also send it by email to FHFA at RegComments@fhfa.gov to ensure timely receipt by the agency. Please include “Comments/No. 2017-N-09” in the subject line of the message.

• Hand Delivered/Courier: The hand delivery address is: Alfred M. Pollard, General Counsel, Attention: Comments/No. 2017-N-09, Federal Housing Finance Agency, 400 7th Street SW., Eighth Floor, Washington, DC 20219. The package should be delivered to the 7th Street entrance Guard Desk, First Floor, on business days between 9 a.m. and 5 p.m.

• U.S. Mail, United Parcel Service, Federal Express, or Other Mail Service: The mailing address for comments is: Alfred M. Pollard, General Counsel, Attention: Comments/No. 2017-N-09, Federal Housing Finance Agency, 400 7th Street SW., Eighth Floor, Washington, DC 20219.

See SUPPLEMENTARY INFORMATION for additional information on submission and posting of comments.

FOR FURTHER INFORMATION CONTACT: Moji Adelekan, Senior Human Resources Specialist at (202) 649-3745; or David A. Lee, Senior Agency Official for Privacy, privacy@fhfa.gov, 202-649-3803 (not toll free numbers), Federal Housing Finance Agency, 400 7th Street SW., Washington, DC 20219. The telephone number for the Telecommunications Device for the Deaf is 800-877-8339.

SUPPLEMENTARY INFORMATION:

I. Comments

Instructions: FHFA seeks public comments on the proposed new system of records and will take all comments into consideration before issuing the final notice. See 5 U.S.C. 552a(e)(4) and (11). In addition to referencing “Comments/No. 2017-N-09,” please reference the title and number of the system of records your comment addresses: “Applicant Tracking System (FHFA-25).”

Posting and Public Availability of Comments: All comments received will be posted without change on the FHFA Web site at http://www.fhfa.gov, and will include any personal information provided, such as your name, address (home and email), telephone number, and any other information you provide. In addition, copies of all comments received will be available for examination by the public on business days between the hours of 10 a.m. and 3 p.m., at the Federal Housing Finance Agency, 400 7th Street SW., Washington, DC 20219. To make an appointment to inspect comments, please call the Office of General Counsel at (202) 649-3804.

II. Introduction

This notice informs the public of FHFA's proposal to establish and maintain a new system of records. The proposed new system is being established under FHFA's authority at 12 U.S.C. 4517(h) to hire for mission critical occupation jobs such as examiners, accountants, economists, and specialists in financial markets and in technology. This notice satisfies the Privacy Act requirement that an agency publish a system of records notice in the Federal Register when there is an addition to the agency's systems of records. It has been recognized by Congress that application of all requirements of the Privacy Act to certain categories of records may have an undesirable and often unacceptable effect upon agencies in the conduct of necessary public business. Consequently, Congress established general exemptions and specific exemptions that could be used to exempt records from provisions of the Privacy Act. Congress also required that exempting records from provisions of the Privacy Act would require the head of an agency to publish a determination to exempt a record from the Privacy Act as a rule in accordance with the Administrative Procedures Act. The Director of FHFA has determined that records and information in this new system of records is not exempt from requirements of the Privacy Act.

As required by the Privacy Act, 5 U.S.C. 552a(r), and pursuant to section 7 of OMB Circular No. A-108, “Federal Agency Responsibilities for Review, Reporting, and Publication under the Privacy Act,” dated December 23, 2016 (81 FR 94424 (Dec. 23, 2016)), prior to publication of this notice, FHFA submitted a report describing the new system of records covered by this notice to the Office of Management and Budget, the Committee on Oversight and Government Reform of the House of Representatives, and the Committee on Homeland Security and Governmental Affairs of the Senate.

The proposed new system of records described above is set forth in its entirety below.

SYSTEM NAME AND NUMBER:

Applicant Tracking System, FHFA-25.

SECURITY CLASSIFICATION:

Sensitive but unclassified.

SYSTEM LOCATION:

Federal Housing Finance Agency, 400 7th Street SW., Washington, DC 20219; Acendre Inc., 4350 Fairfax Drive, Suite 400, Arlington, VA 22203-1632; and any alternate site used by Federal Housing Finance Agency (FHFA) employees, or individuals, including contractors, assisting such employees.

SYSTEM MANAGER(S):

Office of Human Resources Management, Federal Housing Finance Agency, 400 7th Street SW., Washington, DC 20219.

AUTHORITY FOR MAINTENANCE OF THE SYSTEM:

12 U.S.C. 4515 and 12 U.S.C. 4517(h).

PURPOSE(S) OF THE SYSTEM:

The Applicant Tracking System will be used by FHFA to post and publicize mission critical occupation job openings using FHFA's authority at 12 U.S.C. 4517(h) to hire examiners, accountants, economists, and specialists in financial markets and in technology. The System will be used to receive, store, and process resumes, applications, curriculum vitaes, and similar documents received in response to mission critical occupation job openings, and recruiting and outreach events. In addition, the System will be used to track applicants for such positions.

CATEGORIES OF INDIVIDUALS COVERED BY THE SYSTEM:

Applicants for positions at FHFA.

CATEGORIES OF RECORDS IN THE SYSTEM:

Name; date of birth; race, national origin, color, gender, and disability; business and home addresses; business and personal electronic mail (email) addresses; business, home, cellular, and personal telephone numbers; education records; military status and/or information; and employment experience, status and related information.

RECORD SOURCE CATEGORIES:

Information is provided by applicants.

ROUTINE USES OF RECORDS MAINTAINED IN THE SYSTEM, INCLUDING CATEGORIES OF USERS AND PURPOSE OF SUCH USES:

In addition to those disclosures generally permitted under 5 U.S.C. 552a(b) of the Privacy Act, these records or information contained therein may specifically be disclosed outside FHFA as a routine use pursuant to 5 U.S.C. 552a(b)(3) as follows:

(1) To appropriate agencies, entities, and persons when (1) FHFA suspects or has confirmed that there has been a breach of the system of records, (2) FHFA has determined that as a result of the suspected or confirmed breach there is a risk of harm to individuals, FHFA (including its information systems, programs, and operations), the Federal Government, or national security; and (3) the disclosure made to such agencies, entities, and persons is reasonably necessary to assist in connection with FHFA's efforts to respond to the suspected or confirmed breach or to prevent, minimize, or remedy such harm.

(2) Where there is an indication of a violation or potential violation of law, whether civil, criminal or regulatory in nature, and whether arising by general statute or particular program statute, or by regulation, rule or order issued pursuant thereto, the relevant records in the system of records may be referred, as a routine use, to the appropriate agency, whether federal, state, local, tribal, foreign or a financial regulatory organization charged with the responsibility of investigating or prosecuting such violation or charged with enforcing or implementing a statute, or rule, regulation or order issued pursuant thereto.

(3) To any individual during the course of any inquiry or investigation conducted by FHFA, or in connection with civil litigation, if FHFA has reason to believe that the individual to whom the record is disclosed may have further information about the matters related therein, and those matters appeared to be relevant at the time to the subject matter of the inquiry.

(4) To any individual with whom FHFA contracts to collect, store, or maintain, or reproduce by typing, photocopy or other means, any record within this system for use by FHFA and its employees in connection with their official duties, or to any individual who is utilized by FHFA to perform clerical or stenographic functions relating to the official business of FHFA.

(5) To a Congressional office from the record of an individual in response to an inquiry from the Congressional office made at the request of that individual.

(6) To a court, magistrate, or administrative tribunal in the course of presenting evidence, including disclosures to opposing counsel or witnesses in the course of civil discovery, litigation, or settlement negotiations or in connection with criminal law proceedings or in response to a subpoena from a court of competent jurisdiction.

(7) To the Office of Management and Budget, Department of Justice (DOJ), Department of Labor, Office of Personnel Management, Equal Employment Opportunity Commission, Office of Special Counsel, or other Federal agencies to obtain advice regarding statutory, regulatory, policy, and other requirements related to the purpose for which FHFA collected the records.

(8) To DOJ, (including United States Attorney Offices), or other Federal agency conducting litigation or in proceedings before any court, adjudicative or administrative body, when it is necessary to the litigation and one of the following is a party to the litigation or has an interest in such litigation:

1. FHFA

2. Any employee of FHFA in his/her official capacity;

3. Any employee of FHFA in his/her individual capacity where DOJ or FHFA has agreed to represent the employee; or

4. The United States or any agency thereof, is a party to the litigation or has an interest in such litigation, and FHFA determines that the records are both relevant and necessary to the litigation and the use of such records is compatible with the purpose for which FHFA collected the records.

(9) To the National Archives and Records Administration or other Federal agencies pursuant to records management inspections being conducted under the authority of 44 U.S.C. 2904 and 2906.

(10) To an agency, organization, or individual for the purpose of performing audit or oversight operations as authorized by law, but only such information as is necessary and relevant to such audit or oversight function.

POLICIES AND PRACTICES FOR STORAGE OF RECORDS:

Records are maintained in electronic and paper format. Electronic records are stored in computerized databases. Paper records are stored in locked offices, locked file rooms, locked file cabinets, or safes.

POLICIES AND PRACTIES FOR RETRIEVAL OF RECORDS:

Records may be retrieved by any of the following: Name, email address, or assigned file number. Information may additionally be retrieved by other personal identifiers.

POLICIES AND PRACTICES FOR RETENTION AND DISPOSAL OF RECORDS:

Records are retained and disposed of in accordance with FHFA's approved Comprehensive Records Schedule (CRS), Items 5.3 Human Resources Records; and 6.2 Routine Office Administration Records.

ADMINISTRATIVE, TECHNICAL, AND PHYSICAL SAFEGUARDS:

Records are safeguarded in a secured environment. Buildings where records are stored have security cameras and 24-hour security guard service. Computerized records are safeguarded through use of access codes and other information technology security measures. Paper records are safeguarded by locked offices, locked file rooms, locked file cabinets, or safes. Access to the records, whether in electronic or paper form, is restricted to those who require the records in the performance of official duties related to the purposes for which the system is maintained.

RECORD ACCESS PROCEDURES:

Direct requests for access to a record to the Privacy Act Officer, Federal Housing Finance Agency, 400 7th Street SW., Washington, DC 20219, or privacy@fhfa.gov in accordance with the procedures set forth in 12 CFR part 1204.

CONTESTING RECORD PROCEDURES:

Direct requests to contest or appeal an adverse determination for a record to the Privacy Act Appeals Officer, Federal Housing Finance Agency, 400 7th Street SW., Washington, DC 20219, or privacy@fhfa.gov in accordance with the procedures set forth in 12 CFR part 1204.

NOTIFICATION PROCEDURES:

Direct inquiries as to whether this system contains a record pertaining to an individual to the Privacy Act Officer, Federal Housing Finance Agency, 400 7th Street SW., Washington, DC 20219, or privacy@fhfa.gov in accordance with the procedures set forth in 12 CFR part 1204.

EXEMPTIONS PROMULGATED FOR THE SYSTEM:

None.

HISTORY:

This is a new system therefore there is no history.

Dated: November 9, 2017.
Melvin L. Watt,
Director, Federal Housing Finance Agency.

[FR Doc. 2017-24727 Filed 11-14-17; 8:45 am]

BILLING CODE 8070-01-P